DEPARTMENT OF HEALTH AND HUMAN SERVICES

Centers for Disease Control and Prevention

Breast and Cervical Cancer Early Detection and Control Advisory Committee (BCCEDCAC)

In accordance with section 10(a)(2) of the Federal Advisory Committee Act (Pub. L. 92-463), the Centers for Disease Control and Prevention (CDC), announces the meeting of the aforementioned committee:

Times and Dates:

9 a.m.-5 p.m., June 16, 2011.

9 a.m.-12:30 p.m., June 17, 2011.

Place: Westin Atlanta Perimeter North, 7 Concourse Parkway NE., Atlanta, GA 30328, Telephone: (770) 395-3900.

Purpose: The committee is charged with advising the Secretary, Department of Health and Human Services, and the Director, CDC, regarding the early detection and control of breast and cervical cancer. The committee makes recommendations regarding national program goals and objectives; implementation strategies; and program, priorities including surveillance, epidemiologic investigations, education and training, information dissemination, professional interactions and collaborations, and policy.

Matters To Be Discussed: The agenda will include discussion and review of Healthcare Reform and its impact for breast and cervical cancer screening; updates on the National Breast and Cervical Cancer Early Detection Program Marketing Tool kit for increased awareness for the state programs; Presentations with updates on Care Coordination and Best Practices; Discussion of what, if any, modifications should be made to the NBCCEDP's current screening policies based on new and updated Healthcare Reform policies.

Agenda items are subject to change as priorities dictate.

Contact Person for More Information: Jameka R. Blackmon, Executive Secretary, BCCEDCAC, Division of Cancer Prevention and Control, National Center for Chronic Disease Prevention and Health Promotion, CDC, 4770 Buford Highway, Mailstop K-57, Chamblee, Georgia 30314, Telephone: (770) 488-4880.

The Director, Management Analysis and Services Office, has been delegated the authority to sign Federal Register notices pertaining to announcements of meetings and other committee management activities, for both the Centers for Disease Control and Prevention, and the Agency for Toxic Substances and Disease Registry.

Dated: May 19, 2011.
Elaine L. Baker,
Director, Management Analysis and Services Office, Centers for Disease Control and Prevention.

[FR Doc. 2011-13047 Filed 5-25-11; 8:45 am]

BILLING CODE 4163-18-P